FEDERAL RETIREMENT THRIFT INVESTMENT BOARD

Sunshine Act; Notice of Meeting

Time and Date: May 17, 2010 9 a.m. (Eastern Time).

Place: 4th Floor Conference Room, 1250 H Street, NW., Washington, DC 20005.

Status: Parts will be open to the public and parts closed to the public.

Matters To Be Considered:

Parts Open to the Public

1. Approval of the minutes of the April 19, 2010 Board member meeting.

2. Thrift Savings Plan activity report by the Executive Director:

a. Monthly Participant Activity Report;

b. Monthly Investment Performance Review;

c. Legislative Report.

3. Mid-Year Budget Review.

4. Recognition of Outstanding Service by Board Members Fink and Whiting.

Parts Closed to the Public

5. Proprietary Data.

FOR FURTHER INFORMATION CONTACT: Thomas J. Trabucco, Director, Office of External Affairs, (202) 942-1640.

Dated: May 3, 2010.
Thomas K. Emswiler,
Secretary, Federal Retirement Thrift Investment Board.

[FR Doc. 2010-10749 Filed 5-3-10; 4:15 pm]

BILLING CODE 6760-01-P